Title 3—

The President

Proclamation 9731 of April 30, 2018

Jewish American Heritage Month, 2018

By the President of the United States of America

A Proclamation

During Jewish American Heritage Month, we celebrate the profound contributions that the Jewish faith and its traditions have had on our Nation. Two hundred years ago, in April 1818, Mordecai Noah delivered his famous discourse before the members of America's first synagogue, Congregation Shearith Israel, upon the consecration of their new house of worship. Reflecting on Jewish history as well as on the unique rights and privileges afforded to American Jews, Noah proclaimed that, “for the first time in eighteen centuries, it may be said that the Jew feels he was born equal, and is entitled to equal protection; he can now breathe freely.”

Jewish Americans have helped guide the moral character of our Nation. They have maintained a strong commitment to engage deeply in American society while also preserving their historic values and traditions. Their passion for social justice and showing kindness to strangers is rooted in the beliefs that God created all people in his image and that we all deserve dignity and peace. These beliefs have inspired Jewish Americans to build mutual-support societies, hospitals, and educational institutions that have enabled them and their fellow Americans to advance American society. Jewish Americans marched for civil rights in Selma and fought for the freedom of their brethren behind the Iron Curtain. Through their actions, they have made the world a better place.

The contributions of the Jewish people to American society are innumerable, strengthening our Nation and making it more prosperous. American Jews have proudly served our country in all branches of government, from local to Federal, and they have defended our freedom while serving in the United States Armed Forces. The indelible marks that American Jews have left on literature, music, cinema, and the arts have enriched the American soul. In their enduring tradition of generosity, Jewish Americans have established some of the largest philanthropic and volunteer networks in the Nation, providing humanitarian aid and social services to those in need at home and abroad, acting as a “light unto the nations.” Universities and other institutions around the country proudly display Nobel prizes won by Jewish Americans in the fields of medicine, chemistry, physics, and economics.

In reaction to Mordecai Noah's 1818 discourse, Thomas Jefferson wrote that American laws protect “our religious as they do our civil rights by putting all on an equal footing.” The American Jewish community is a shining example of how enshrining freedom of religion and protecting the rights of minorities can strengthen a nation. Through their rich culture and heritage, the Jewish people have triumphed over adversity and enhanced our country. For this and many other reasons, the American Jewish community is deserving of our respect, recognition, and gratitude.

NOW, THEREFORE, I, DONALD J. TRUMP, President of the United States of America, by virtue of the authority vested in me by the Constitution and the laws of the United States, do hereby proclaim May 2018 as Jewish American Heritage Month. I call upon all Americans to celebrate the heritage and contributions of American Jews and to observe this month with appropriate programs, activities, and ceremonies.

IN WITNESS WHEREOF, I have hereunto set my hand this thirtieth day of April, in the year of our Lord two thousand eighteen, and of the Independence of the United States of America the two hundred and forty-second.

[FR Doc. 2018-09587

Filed 5-2-18; 11:15 am]

Billing code 3295-F8-P